NUCLEAR REGULATORY COMMISSION

Advisory Committee on Reactor Safeguards: Joint Meeting of the ACRS Subcommittees on Materials and Metallurgy and on Thermal-Hydraulic Phenomena; Notice of Meeting

The ACRS Subcommittees on Materials and Metallurgy and on Thermal-Hydraulic Phenomena will hold a joint meeting on February 3-4, 2004, Room T-2B3, 11545 Rockville Pike, Rockville, Maryland.

Portions of the meeting may be closed to public attendance to discuss Argonne National Laboratory (ANL) proprietary information per 5 U.S.C. 552b(c)(4).

The agenda for the subject meeting shall be as follows:

Tuesday and Wednesday, February 3-4, 2004—8:30 a.m. Until the Conclusion of Business

The Subcommittees will review the resolution of certain items identified by the ACRS in NUREG-1740, “Voltage-Based Alternative Repair Criteria,” related to the Differing Professional Opinion on steam generator tube integrity, as well as the status of resolution of remaining items. The purpose of this meeting is to gather information, analyze relevant issues and facts, and formulate proposed positions and actions, as appropriate, for deliberation by the full Committee.

Members of the public desiring to provide oral statements and/or written comments should notify the Designated Federal Official, Mr. Bhagwat P. Jain (telephone: 301-415-7270), five days prior to the meeting, if possible, so that appropriate arrangements can be made. Electronic recordings will be permitted.

Further information regarding this meeting can be obtained by contacting the Designated Federal Official between 7:30 a.m. and 5 p.m. (ET). Persons planning to attend this meeting are urged to contact the above named individual at least two working days prior to the meeting to be advised of any potential changes to the agenda.

Dated: January 8, 2004.
Sher Bahadur,
Associate Director for Technical Support, ACRS/ACNW.

[FR Doc. 04-791 Filed 1-13-04; 8:45 am]

BILLING CODE 7590-01-P